NUCLEAR REGULATORY COMMISSION

10 CFR Part 40

RIN 3150-AI50

[NRC-2009-0079 and NRC-2011-0080]

Domestic Licensing of Source Material—Amendments/Integrated Safety Analysis

AGENCY: Nuclear Regulatory Commission.

ACTION: Extension of public comment period and public meeting.

SUMMARY: The U.S. Nuclear Regulatory Commission (NRC) is proposing to amend its Title 10 of the Code of Federal Regulations (10 CFR) Part 40 regulations by adding additional requirements for source material licensees who possess significant quantities of uranium hexafluoride (UF6). The proposed rule and proposed guidance document were published in the Federal Register on May 17, 2011 (76 FR 28336), for public comment and an administrative correction to 76 FR 28336 was published in the Federal Register on June 1, 2011 (76 FR 31507). The Nuclear Energy Institute (NEI), in a letter dated June 21, 2011, requested the NRC to hold a public meeting on the proposed rule and draft guidance document and to extend the public comment period.

Based on NEI's request, the NRC will conduct a public meeting on August 17, 2011, to seek public input on the proposed rule and its associated draft guidance document. In addition, the NRC is extending the public comment period for the proposed rule and associated draft guidance document from 75 days to 115 days to allow the public ample opportunity to submit written comments.

DATES: Submit comments specific to the proposed rule and draft guidance document by September 9, 2011. Comments received after this date will be considered if it is practical to do so, but the NRC is able to assure consideration only for comments received on or before this date.

The public meeting will be held on Wednesday, August 7, 2011, from 9 a.m. to 12 p.m. (eastern daylight time).

ADDRESSES: Please include the applicable Docket ID in the subject line of your comments. Comments submitted in writing or in electronic form will be posted on the NRC Web site and on the Federal rulemaking Web site, http://www.regulations.gov. Because your comments will not be edited to remove any identifying or contact information, the NRC cautions you against including any information in your submission that you do not want to be publicly disclosed. The NRC requests that any party soliciting or aggregating comments received from other persons for submission to the NRC inform those persons that the NRC will not edit their comments to remove any identifying or contact information, and therefore, they should not include any information in their comments that they do not want publicly disclosed. You may submit comments on the proposed rule (Docket ID NRC-2009-0079) by any one of the following methods:

• Federal Rulemaking Web Site: Go to http://www.regulations.gov and search for documents filed under Docket ID NRC-2009-0079 for the proposed rule. Address questions about NRC dockets to Carol Gallagher, telephone: 301-492-3668; e-mail: Carol.Gallagher@nrc.gov.

• Mail comments to: Secretary, U.S. Nuclear Regulatory Commission, Washington, D.C. 20555-0001, ATTN: Rulemakings and Adjudications Staff.

• E-mail comments to: Rulemaking.Comments@nrc.gov. If you do not receive a reply e-mail confirming that we have received your comments, contact us directly at 301-415-1677.

• Hand deliver comments to: 11555 Rockville Pike, Rockville, MD 20852, between 7:30 a.m. and 4:15 p.m. Federal workdays. (Telephone 301-415-1677)

• Fax comments to: Secretary, U.S. Nuclear Regulatory Commission at 301-415-1101.

You may submit comments on the proposed draft guidance document (Docket ID NRC-2011-0080) by any one of the following methods:

• Federal Rulemaking Web Site: Go to http://www.regulations.gov and search for documents filed under Docket ID NRC-2011-0080. Address questions about NRC dockets to Carol Gallagher, telephone: 301-492-3668; e-mail: Carol.Gallagher@nrc.gov.

• Mail comments to: Cindy Bladey, Chief, Rules, Announcements, and Directives Branch (RADB), Office of Administration, Mail Stop: TWB-05-B01M, U.S. Nuclear Regulatory Commission, Washington, DC 20555-0001.

• Fax comments to: RADB at 301-492-3446.

You can access publicly available documents related to the proposed rule and draft guidance document using the following methods:

• NRC's Public Document Room (PDR): The public may examine and have copied, for a fee, publicly available documents at the NRC's PDR, Room O-1 F21, One White Flint North, 11555 Rockville Pike, Rockville, Maryland 20852.

• NRC's Agencywide Documents Access and Management System (ADAMS):Publicly available documents created or received at the NRC are available online in the NRC Library at http://www.nrc.gov/reading-rm/adams.html. From this page, the public can gain entry into ADAMS, which provides text and image files of NRC's public documents. If you do not have access to ADAMS or if there are problems in accessing the documents located in ADAMS, contact the NRC's PDR reference staff at 1-800-397-4209, or 301-415-4737, or by e-mail to PDR.Resource@nrc.gov. The proposed rule and draft guidance document are available electronically under ADAMS Accession Numbers ML110890797 and ML102520022, respectively.

• Federal Rulemaking Web Site: Public comments and supporting materials related to this proposed guidance document can be found at http://www.regulations.gov by searching on Docket ID NRC-2009-0080 for the proposed guidance document.

FOR FURTHER INFORMATION CONTACT: Edward M. Lohr, Office of Federal and State Materials and Environmental Management Programs, U.S. Nuclear Regulatory Commission, Washington, DC 20555-0001, telephone: 301-415-0253, e-mail: Edward.Lohr@nrc.gov.

SUPPLEMENTARY INFORMATION:

Discussion

The NRC is proposing to amend its regulations by adding additional requirements for source material licensees who possess significant quantities of UF6. The proposed amendments would require such licensees to conduct integrated safety analyses (ISAs) similar to the ISAs performed by 10 CFR Part 70 licensees; set possession limits for UF6 for determining licensing authority (NRC or Agreement States); add defined terms; add an additional evaluation criterion for applicants who submit an evaluation in lieu of an emergency plan; require the NRC to perform a backfit analysis under specified circumstances; and make administrative changes to the structure of 10 CFR Part 40. The proposed rule was published in the FR on May 17, 2011 (76 FR 28336) for a 75 day public comment period ending on August 1, 2011. An administrative correction to 76 FR 28336 was published in the FR on June 1, 2011 (76 FR 31507).

In a letter dated June 21, 2011, the NEI requested the NRC to hold a public meeting on the proposed rule and draft guidance document and to extend the public comment period. Based on NEI's request, the NRC plans to hold a public meeting on August 17, 2011, to seek public comments on the proposed rule and its associated draft guidance document. In addition, the NRC is extending the public comment period for the proposed rule from 75 days to 115 days. The public comment period on the proposed rule and the proposed guidance document will now end on September 9, 2011.

Public Meeting

The NRC plans to conduct a transcribed public meeting on August 17, 2011, to seek public input on the proposed rule and its associated draft guidance document. The public meeting will be held from 9 a.m. to 12 p.m. (eastern daylight time) at the Executive Boulevard Building, Room EBB-1-B13/15, 6003 Executive Boulevard, Rockville, Maryland 20852. The meeting will provide an opportunity for stakeholders to express their comments on the proposed rule and draft guidance document. The meeting agenda can be viewed and downloaded electronically from the NRC's Public Meeting Web site, http://www.nrc.gov/public-involve/public-meetings/index.cfm.

The NRC will review the meeting transcript and will consider any comments received during the public meeting on the proposed rule and draft guidance document. The NRC will summarize all comments by topic, including comments received during the public meeting, and will address the comments in the Statements of Consideration for the final rule.

Attendees are requested to notify Mr. Edward Lohr at (301) 415-0253 or e-mail Edward.Lohr@nrc.gov of their planned attendance and if special services are necessary, such as for the hearing impaired.

Dated at Rockville, Maryland, this 19th day of July 2011.
For the Nuclear Regulatory Commission.
Josephine M. Piccone,
Director, Division of Intergovernmental Liaison and Rulemaking, Office of Federal and State Materials and Environmental Management Programs.

[FR Doc. 2011-18955 Filed 7-26-11; 8:45 am]

BILLING CODE 7590-01-P